DEPARTMENT OF COMMERCE

National Oceanic and Atmospheric Administration

Marine Protected Areas Center Gulf of Mexico Region Public Dialogue Meeting

AGENCY: National Marine Protected Areas Center (MPA Center), Office of Ocean and Coastal Resource Management (OCRM), National Ocean Service (NOS), National Oceanic and Atmospheric Administration (NOAA), Department of Commerce (DOC).

ACTION: Notice; correction.

SUMMARY: The National Oceanic and Atmospheric Administration (NOAA) announcement of the Marine Protected Areas Center Gulf of Mexico Region Public Dialogue Meeting appeared in the Federal Register dated June 17, 2005 (70 FR 116), pages 35227-35228. The document was incorrectly titled as, “Marine Protected Areas Center New England Region Public Dialogue Meeting.” All other information regarding the Gulf of Mexico Public Dialogue Meeting in the document is correct.

FOR FURTHER INFORMATION CONTACT: Jonathan Kelsey, 301-713-3155, extension 230, or mpa.comments@noaa.gov.

Correction

In the Federal Register of June 17, 2005, in FR Doc. 05-11936, on page 35227, in the third column, correct the “Marine Protected Areas Center New England Region Public Dialogue Meeting” title to read:

Marine Protected Areas Center Gulf of Mexico Region Public Dialogue Meeting.

Dated: June 21, 2005.
Eldon Hout,
Director, Office of Ocean and Coastal Resource Management, National Ocean Service, National Oceanic Atmospheric Administration.

[FR Doc. 05-12652 Filed 6-24-05; 8:45 am]

BILLING CODE 3510-22-P